DEPARTMENT OF COMMERCE

International Trade Administration

[A-520-803]

Polyethylene Terephthalate Film, Sheet and Strip From the United Arab Emirates: Partial Rescission of Antidumping Duty Administrative Review; 2013-2014

AGENCY: Enforcement and Compliance, International Trade Administration, Department of Commerce.

DATES: Effective Date: April 10, 2015.

FOR FURTHER INFORMATION CONTACT: Andrew Huston, Office VII, Antidumping and Countervailing Duty Operations, Enforcement and Compliance, International Trade Administration, U.S. Department of Commerce, 14th Street and Constitution Avenue NW., Washington, DC 20230; telephone: (202) 482-4261.

Background

On November 3, 2014, the Department of Commerce (the Department) published a notice of opportunity to request an administrative review of the antidumping duty (AD) order on polyethylene terephthalate film, sheet and strip from the United Arab Emirates covering the period November 1, 2013, through October 31, 2014.¹ The Department received a timely request from Petitioners ² for an AD administrative review of two companies: JBF RAK LLC (JBF) and Flex Middle East FZE (Flex).³ In addition, JBF submitted a timely request for an AD review of itself.⁴ On December 23, 2014, pursuant to the requests from interested parties, the Department published a notice of initiation of administrative review with respect to Flex and JBF.⁵ On March 23, 2015, Petitioners withdrew their requests for review of JBF and Flex.⁶

¹ See Antidumping or Countervailing Duty Order, Finding, or Suspended Investigation; Opportunity To Request Administrative Review, 79 FR 65176, 65177 (November 3, 2014).

² Petitioners are DuPont Teijin Films, Mitsubishi Polyester Film, Inc., and SKC, Inc.

³ See Petitioners' letter, “Polyethylene Terephthalate (PET) Film, Sheet, and Strip from United Arab Emirates: Request for Antidumping Duty Administrative Review,” dated December 1, 2014.

⁴ See JBF's letter, “JBF RAK LLC/Request for A/D Administrative Review: Polyethylene Terephthalate (PET) Film, Sheet, and Strip from United Arab Emirates,” dated November 24, 2014.

⁵ See Initiation of Antidumping and Countervailing Duty Administrative Reviews, 79 FR 76956 (December 23, 2014).

⁶ See Petitioners' letter “Withdrawal of Request for Antidumping Duty Administrative Review,” dated March 23, 2015.

Rescission in Part

Pursuant to 19 CFR 351.213(d)(1), the Secretary will rescind an administrative review, in whole or in part, if a party that requested the review withdraws the request within 90 days of the date of publication of the notice of initiation of the requested review. The Department initiated the instant review on December 23, 2014 and Petitioners withdrew their request on March 23, 2015, which is within the 90-day period and thus is timely. Because Petitioners' withdrawal of their requests for review is timely and because no other party requested a review of Flex, we are rescinding this review, in part, with respect to Flex, in accordance with 19 CFR 351.213(d)(1). JBF's request for a review of itself has not been withdrawn. As such, the instant review will continue with respect to JBF.

Assessment

The Department will instruct U.S. Customs and Border Protection (CBP) to assess ADs on all appropriate entries. Subject merchandise of Flex will be assessed ADs at rates equal to the cash deposit of estimated ADs required at the time of entry, or withdrawal from warehouse, for consumption, during the period November 1, 2013, through October 31, 2014, in accordance with 19 CFR 351.212(c)(1)(i). The Department intends to issue assessment instructions to CBP 15 days after the date of publication of this notice.

Notification to Importers

This notice serves as a reminder to importers for whom this review is being rescinded, as of the publication date of this notice, of their responsibility under 19 CFR 351.402(f)(2) to file a certificate regarding the reimbursement of ADs prior to liquidation of the relevant entries during this review period. Failure to comply with this requirement could result in the Secretary's presumption that reimbursement of the ADs occurred and the subsequent increase in the amount of ADs assessed.

Notification Regarding Administrative Protective Orders

This notice also serves as a final reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with section 751(a)(1) and 777(i)(1) of the Tariff Act of 1930, as amended, and 19 CFR 351.213(d)(4).

Dated: April 3, 2015.
Gary Taverman,
Associate Deputy Assistant Secretary for Antidumping and Countervailing Duty Operations.

[FR Doc. 2015-08327 Filed 4-10-15; 8:45 am]

BILLING CODE 3510-DS-P